DEPARTMENT OF AGRICULTURE

Food Safety and Inspection Service

[Docket No. FSIS-2009-0001]

Codex Alimentarius Commission: Meeting of the Codex Committee on Contaminants in Foods

AGENCY: Office of the Acting Deputy Under Secretary for Food Safety, USDA.

ACTION: Notice of public meeting and request for comments.

SUMMARY: The Office of the Acting Deputy Under Secretary for Food Safety, U.S. Department of Agriculture (USDA), and the Food and Drug Administration (FDA), U.S. Department of Health and Human Services (HHS), are sponsoring a public meeting on March 5, 2009. The objective of the public meeting is to provide information and receive public comments on agenda items and draft United States positions that will be discussed at the 3rd Session of the Codex Committee on Contaminants in Foods (CCCF) of the Codex Alimentarius Commission (Codex), which will be held in Rotterdam, The Netherlands, from March 23-27, 2009.

The Acting Deputy Under Secretary for Food Safety and FDA recognize the importance of providing interested parties the opportunity to obtain background information on the 3rd Session of the CCCF and to address items that will be on the agenda.

DATES: The public meeting is scheduled for Thursday, March 5, 2009, from 1 to 3 p.m.

ADDRESSES: The public meeting will be held in the Harvey Wiley Federal Building, Room 1A-001, FDA, Center for Food Safety and Applied Nutrition (CFSAN), 5100 Paint Branch Parkway, College Park, MD 20740. Codex documents related to the 3rd Session of the CCCF are accessible via the World Wide Web at the following address: http://www.codexaliment;arius.net/current.asp.

The U.S. Delegate to the CCCF, Dr. Nega Beru, invites interested U.S. parties to submit their comments electronically to the following e-mail address: henry.kim@fda.hhs.gov.

Registration: Register electronically to the same e-mail address above. Early registration is encouraged because it will expedite entry into the building and its parking area. If you require parking, please include the vehicle make and tag number, if known, when you register. Because the meeting will be held in a Federal building, you should also bring photo identification and plan for adequate time to pass through security screening systems.

FOR FURTHER INFORMATION ABOUT THE 3rd SESSION OF THE CCCF CONTACT: Dr. Henry Kim, Office of Food Safety, CFSAN, FDA, 5100 Paint Branch Parkway (HFS-317), College Park, MD 20740, Phone: (301) 436-2023, Fax: (301) 436-2651, e-mail: henry.kim@fda.hhs.gov.

FOR FURTHER INFORMATION ABOUT THE PUBLIC MEETING CONTACT: Paulo Almeida, Associate Manager, U.S. Codex Office, Food Safety and Inspection Service, Room 4861, South Building, 1400 Independence Avenue, SW., Washington, DC 20250, Phone: (202) 205-7760, Fax: (202) 720-3157, e-mail: USCodex@fsis.usda.gov.

SUPPLEMENTARY INFORMATION:

Background

The Codex Alimentarius Commission (Codex) was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The CCCF was established by Codex in 2006 as a separate Committee to establish or endorse maximum levels for contaminants and naturally occurring toxicants in food and feed; to prepare priority lists of contaminants and naturally occurring toxicants for risk assessment by the Joint FAO/WHO Expert Committee on Food Additives (JECFA); to consider methods of analysis and sampling for determination of contaminants and naturally occurring toxicants in food and feed; to consider and elaborate standards or codes of practice for related subjects; and to consider other matters assigned to it by the Commission in relation to contaminants and naturally occurring toxicants in food and feed. The Committee is hosted by The Netherlands.

Issues To Be Discussed at the Public Meeting

The following items on the agenda for the 3rd Session of the CCCF will be discussed during the public meeting:

• Matters Referred to the Committee from other Codex bodies.

• Matters of interest arising from FAO and WHO (including JECFA).

• Draft Revision of the Preamble of the General Standard for Contaminants and Toxins in Food (GSCTF) (N04-2006).

• Draft Code of Practice for the Reduction of Acrylamide in Food (N06-2006).

• Draft Code of Practice for the Reduction of Contamination of Food with Polycyclic Aromatic Hydrocarbons (PAH) from Smoking and Direct Drying Processes (N07-2006).

• Proposed Draft Maximum Levels for Total Aflatoxins in Brazil Nuts (N11-2008).

• Proposed Draft Code of Practice for the Prevention and Reduction of Ochratoxin A Contamination in Coffee (N12-2008).

• Discussion Paper on Fumonisins.

• Discussion Paper on Benzene in Soft Drinks.

• Discussion Paper on Cyanogenic Glycosides.

• Discussion Paper on Mycotoxins in Sorghum.

• Discussion Paper on Ethyl Carbamate on Alcoholic Beverages.

• Priority List of Contaminants and Naturally Occurring Toxicants Proposed for Evaluation by the JECFA.

Each item listed above will be fully described in documents distributed, or to be distributed, by the Secretariat prior to the March 23-27, 2009, meeting in Rotterdam. Members of the public may access copies of these documents at http://www.codexalimentarius.net/current.asp.

Public Meeting

At the March 5, 2009, public meeting, draft U.S. positions on the agenda items will be described and discussed, and attendees will have the opportunity to pose questions and offer comments. Written comments may be offered at the meeting or sent to Dr. Henry Kim at henry.kim@fda.hhs.gov. Written comments should state that they relate to activities of the 3rd Session of the CCCF.

Additional Public Notification

Public awareness of all segments of rulemaking and policy development is important. Consequently, in an effort to ensure that minorities, women, and persons with disabilities are aware of this notice, USDA will announce it online via its Food Safety and Inspection Service (FSIS) Web page located at http://www.fsis.usda.gov/regulations/2009_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through the Listserv and Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on February 18, 2009.
Barbara McNiff,
Acting U.S. Manager for Codex Alimentarius.

[FR Doc. E9-3847 Filed 2-23-09; 8:45 am]

BILLING CODE 3410-DM-P